DEPARTMENT OF AGRICULTURE

Forest Service

Notice of Intent To Prepare an Environmental Impact Statement

AGENCY: Forest Service, USDA.

ACTION: Notice of intent to prepare an environmental impact statement.

SUMMARY: The Forest Service will prepare a Draft Environmental Impact Statement (Draft EIS) to evaluate the environmental impacts of authorizing Leavell-McCombs Joint Venture (LMJV) to access 287.5 acres of private property surrounded by National Forest System land. The Forest Service must provide adequate access for the reasonable use and enjoyment of private land. LMJV intends to construct a resort and other facilities known as the Village at Wolf Creek on their property, which lies entirely within the Wolf Creek Ski Area. An alternative that evaluates combining the access for both the Village at Wolf Creek and the Wolf Creek Ski Area into a single grade-separated interchange will be analyzed.

DATES: Comments concerning the scope of the analysis must be received by October 31, 2008. The draft EIS is expected May 2009; the final EIS is expected December 2009.

ADDRESSES: Send written comments to Wolf Creek Access EIS, C/O Content Analysis Group, 1584 South 500 West, Suite 202, Woods Cross, UT, 84010, or wolfcreek@contentanalysisgroup.com. Fax: 801-397-5628. Electronic copies of the scoping packet will be available on the World Wide Web at http://www.fs.fed.us/r2/riogrande/projects/forcomment/index.shtml.

FOR FURTHER INFORMATION CONTACT: Becky Bryan, Wolf Creek Access Project Leader, 401 Fairgrounds Road, Rolla, MO 65401.

SUPPLEMENTARY INFORMATION: LMJV acquired 300 acres surrounded by National Forest System lands within the Wolf Creek Ski Area (Ski Area) boundary in a land-for-land exchange with the Forest Service in 1987. Subsequently, LMJV transferred 12.5 acres of that parcel to the Wolf Creek Ski Corporation for the development of new ski lifts and ski trails. Mineral County Board of County Commissioners, the regulatory authority on private property development, approved LMJV's Final Planned Use Development (PUD) for a year-round resort village, known as the Village at Wolf Creek, on the remaining 287.5 acres in 2004. A lawsuit challenging the PUD resulted in the following court order: “[We] conclude that [the state statute] requires at a minimum year-around wheeled vehicle access between State Highway 160 and the Village.” Wolf Creek Ski Corp. v. Board of County Com'rs of Mineral County, 170 P.3d 821, 830 (Colo.App. 2007). The result of the state court litigation was to void the county approval of LMJV's PUD. While no PUD is currently in effect, the Forest Service takes note that the state court litigation upheld the PUD on all issues other than access.

In March 2006, Forest Supervisor Peter Clark (retired), of the Rio Grande National Forest (RGNF) signed a Record of Decision (ROD) and issued a Final Environmental Impact Statement (Final EIS) for the Application for the Transportation and Utilities Systems and Facilities for the Village at Wolf Creek. A lawsuit was filed against the U.S. Forest Service, challenging the 2006 ROD and Final EIS. All parties involved reached a settlement agreement on February 19, 2008 to resolve the litigation in which the Forest Service agreed to withdraw the 2006 ROD and initiate a new scoping process and preparation of a new draft and final EIS in connection with LMJV's application. In June 2008, LMJV submitted an amended Application for Transportation and Utility Systems and Facilities on Federal Lands (application). This NOI initiates the new EIS preparation.

Purpose and Need for Action

The purpose of this action is to provide safe and efficient road access compatible with Ski Area operations to the private property surrounded by NFS lands. This action is needed to meet the mandate of the Alaska National Interest Lands Conservation Act (ANILCA) (Pub. L. 96-487) to provide access to private land. Section 1323(a) of ANILCA provides that the Forest Service must grant access across federal lands as the Forest Service deems adequate to secure the owners the reasonable use and enjoyment of their land, subject to Forest Service rules and regulations. However, the Forest Service does not have regulatory authority over the density of development on the private land and any parcel of private land surrounded by Forest Service land could have a range of reasonable uses. The Forest Service does not decide which use of the private property within the range of reasonable uses will be allowed. However, the Forest Service must provide access over National Forest System lands that are adequate to allow use and enjoyment of the private property within that range of reasonable uses.

A key purpose for the 1987 land exchange decision was to provide for private land to be developed for residential and commercial uses in a manner that would complement the ski area. Based on the previously referenced State of Colorado appellate court ruling, Mineral County could not approve subdivision of the Village property for purposes of residential and commercial development without “year-around wheeled vehicle” access. Therefore, the Forest Service concludes that ANILCA requires it to grant “year-around wheeled vehicle access” so that LMJV may use its property for residential and commercial purposes as contemplated by the 1987 land exchange. This conclusion does not prejudge the density of development that Mineral County may approve.

Proposed Action

The Proposed Action is to authorize the construction and use of a safe and efficient road, approximately 1,650 feet in length, across NFS land to provide “year-around wheeled vehicle access” to LMJV for their reasonable use and enjoyment of the proporty. The proposal includes authorization of rights-of-way adjacent to the access road for the installation of utilities to service the Village property.

Possible Alternatives

In addition to the Proposed Action and No Action Alternative, where the access road and Village at Wolf Creek would not be constructed, one alternative being considered would combine the LMJV Village at Wolf Creek access and Wolf Creek Ski Area access into one integrated access using a single grade-separated interchange access point from U.S. Highway 160.

Lead and Cooperating Agencies

The Forest Service is the lead agency. Cooperating agencies may include Colorado Department of Transportation (CDOT), Army Corps of Engineers (ACOE), Mineral County, U.S. Fish & Wildlife Service, Colorado Public Utilities Commission, Environmental Protection Agency, Colorado Division of Water Resources, Colorado Department of Health and Environmental Resources, and Colorado Water Conservation Board.

Responsible Official

Dan S. Dallas, Forest Supervisor of the Rio Grande National Forest, 1803 West Hwy 160, Monte Vista, CO 81144.

Nature of Decision To Be Made

Access must be granted to private inholdings in accordance with ANILCA, so the decision is not whether to grant access. The decisions to be made are: (1) The means, mode, and route of safe and efficient access across NFS lands that is adequate for the Applicant to exercise the reasonable use and enjoyment of the private property; and (2) whether to authorize rights-of-way for utility facilities across NFS lands, and if so, the location and specifications of such rights-of-way.

Open House Scoping Meetings

The public is invited to attend any of three open house scoping meetings to obtain more information and provide written comment about the project. Each open house scoping meeting will begin at 5 p.m. and end at 7:30 p.m. Dates and locations for the open house scoping meetings are:

October 7—Creede Mining Museum, 503 Forest Service Road 9, Creede, CO 81130.

October 8—Rio Grande County Annex, 965 6th St., Del Norte, CO 81132.

October 9—Pagosa Springs Community Building, 451 Hot Springs Blvd., Pagosa Springs, CO 81147.

Preliminary Issues

Preliminary issues, which will be refined from this public involvement and analysis process, include (1) Compatibility with the Wolf Creek Ski Area operations, (2) public safety associated with the traffic levels at U.S. Highway 160 intersection, (3) public access to Alberta Park Reservoir, and (4) potential impacts to wetlands and fens.

Permits or Licenses Required

LMJV will need to obtain a Highway Access Permit from Colorado Department of Transportation. LMJV may also need to obtain an individual 404 permit from the Army Corps of Engineers.

Comment Requested

This notice of intent initiates the scoping process which guides the development of the environmental impact statement. To assist the Forest Service in identifying and considering issues and concerns on the proposed action, comments on the proposed action should be as specific as possible. In addition, the Forest Service welcomes comments on the alternative of a single grade-separated interchange access point from U.S. Highway 160 for both the Wolf Creek Ski Area and Village at Wolf Creek.

Importance of Public Participation in This and Subsequent Environmental Review

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

Authority: 40 CFR 1501.7 and 1508.22, 36 CFR 220.5(b) and Forest Service Handbook 1909.15, Section 21.

Dated: September 11, 2008.
Dan S. Dallas,
Forest Supervisor.

[FR Doc. E8-22150 Filed 9-22-08; 8:45 am]

BILLING CODE 3410-11-P